FEDERAL COMMUNICATIONS COMMISSION

47 CFR Part 9

[PS Docket No. 18-64; FCC 24-4; FRS 245866]

Location-Based Routing for Wireless 911 Calls

AGENCY: Federal Communications Commission.

ACTION: Final rule; announcement of compliance date.

SUMMARY: In this document, the Federal Communications Commission (Commission) announces that the Office of Management and Budget (OMB) has approved information collections associated with certain rules adopted in the Location-Based Routing for Wireless 911 Calls Report and Order. The Commission also announces that compliance with the rules is now required. The Commission also removes and amends a paragraph advising that compliance was not required until OMB approval was obtained. This document is consistent with the 2024 Report and Order and rules, which state the Commission will publish a document in the Federal Register announcing a compliance date for the rule sections and revise the rules accordingly.

DATES:

Effective date: This rule is effective September 26, 2024.

Compliance date: Compliance with 47 CFR 9.10(s)(4) and (5), added in the final rule published March 13, 2024, at 89 FR 18488, and effective May 13, 2024, is required as of September 26, 2024.

FOR FURTHER INFORMATION CONTACT: For further information, please contact Rachel Wehr, Attorney Advisor, Policy and Licensing Division, Public Safety and Homeland Security Bureau at (202) 418-1138 or rachel.wehr@fcc.gov. For additional information concerning the Paperwork Reduction Act information collection requirements, contact Nicole Ongele at (202) 418-2991 or nicole.ongele@fcc.gov.

SUPPLEMENTARY INFORMATION: This document announces that OMB has approved the information collection requirements in 47 CFR 9.10(s)(4) and (5).

The Commission publishes this document as an announcement of the compliance date of 47 CFR 9.10(s)(4) and (5). If you have any comments on the burden estimates listed below, or how the Commission can improve the collections and reduce any burdens caused thereby, please contact Nicole Ongele, Federal Communications Commission, 45 L Street NE, Washington, DC 20554, regarding OMB Control Number 3060-1329. Please include the relevant OMB Control Number in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the Commission is notifying the public that it received OMB approval on September 10, 2024, for the location-based routing information collection requirements contained in the Commission's rules at 47 CFR 9.10(s)(4) and (5).

Under 5 CFR part 1320, an agency may not conduct or sponsor a collection of information unless it displays a current, valid OMB Control Number.

No person shall be subject to any penalty for failing to comply with a collection of information subject to the Paperwork Reduction Act that does not display a current, valid OMB Control Number.

The foregoing notification is required by the Paperwork Reduction Act of 1995, Public Law 104-13, October 1, 1995, and 44 U.S.C. 3507.

The total annual reporting burdens and costs for the respondents are as follows:

OMB Control Number: 3060-1329.

OMB Approval Date: September 10, 2024.

OMB Expiration Date: September 30, 2027.

Title: Location-Based Routing for Wireless 911 Calls.

Form Number: N/A.

Type of Review: New information collection.

Respondents: Business or other for-profit entities.

Number of Respondents and Responses: 59 respondents; 59 responses.

Estimated Time per Response: 40 hours.

Frequency of Response: One-time and on occasion reporting requirement.

Obligation to Respond: Mandatory. Statutory authority for this collection is contained in sections 1, 2, 4(i), 4(j), 4(o), 251(e), 303(b), 303(g), 303(r), 316, and 403 of the Communications Act of 1934, as amended, 47 U.S.C. 151, 152, 154(i), 154(j), 154(o), 251(e), 303(b), 303(g), 303(r), 316, 403, and section 4 of the Wireless Communications and Public Safety Act of 1999, Pub. L. 106-81, sections 101 and 201 of the New and Emerging Technologies 911 Improvement Act of 2008, Pub. L. 110-283, and section 106 of the Twenty-First Century Communications and Video Accessibility Act of 2010, Public Law 111-260, as amended 47 U.S.C. 615a, 615a-1, 615b, 615c.

Total Annual Burden: 2,360 hours.

Total Annual Cost: No Cost.

Needs and Uses: Technical limitations of legacy Enhanced 911 (E911) routing can result in a Commercial Mobile Radio Service (CMRS) provider routing a wireless 911 call to a Public Safety Answering Point (PSAP) other than the one designated by the relevant state or local 911 authority to receive calls from the actual location of the caller. To improve emergency response times, the Commission adopted rules and procedures to require CMRS providers to implement location-based routing (LBR) for wireless 911 voice calls and real-time text (RTT) communications to 911 nationwide. With location-based routing as implemented under the Commission's rules, CMRS providers will use precise location information to route wireless 911 voice calls and RTT communications to 911 to the appropriate PSAP. To facilitate the implementation of location-based routing for wireless 911 voice calls and RTT communications to 911, and to monitor compliance, promote transparency, and ensure accountability, the Commission adopted certain information collection requirements.

Certification and reporting. The Commission will use the information collected pursuant to § 9.10(s)(4) that is submitted by the CMRS providers in their compliance certifications and reports to assess and monitor the implementation of LBR for wireless 911 voice calls and RTT communications to 911 call centers nationwide. Also, the Commission will use the data generated by the information collections to analyze the effectiveness of the LBR implementation at the benchmark dates set forth in the rules. In addition, it is imperative that CMRS providers ensure the privacy and security of location-based routing information.

Section 9.10(s)(4) requires that within 60 days after each benchmark specified in paragraphs (s)(1)(i) and (ii) and (s)(2) of § 9.10 of the rules, CMRS providers must comply with the following certification and reporting requirements.

Under § 9.10(s)(4)(i)(A), CMRS providers must certify that they are in compliance with the requirements specified in paragraphs (s)(1)(i) and (ii) and (s)(2) of this section applicable to them.

Under § 9.10(s)(4)(i)(B), CMRS providers must identify specific network architecture, systems, and procedures used to comply with paragraphs (s)(1)(i) and (ii) and (s)(2) of this section, including the extent to which the CMRS provider validates location information for routing purposes and the validation practices used in connection with this information.

Under § 9.10(s)(4)(i)(C), CMRS providers must certify that neither they nor any third party they rely on to obtain location information or associated data used for compliance with paragraph (s)(1)(i) or (ii) or (s)(2) of this section will use such location information or associated data for any non-911 purpose, except with prior express consent or as otherwise required by law. The certification must state that the CMRS provider and any third parties it relies on to obtain location information or associated data used for compliance with paragraph (s)(1)(i) or (ii) or (s)(2) of this section have implemented measures sufficient to safeguard the privacy and security of such location information or associated data.

Under § 9.10(s)(4)(ii)(A), CMRS providers must collect and report aggregate data on the routing technologies used for all live wireless 911 voice calls in the locations specified for live 911 call location data in paragraph (i)(3)(ii) of this section for a thirty-day period which begins on the compliance date(s) specified in paragraphs (s)(1)(i) and (ii) of this section. CMRS providers must retain live wireless 911 voice call data gathered pursuant to this section for a period of 2 years. CMRS providers must collect and report the following data, expressed as both a number and percentage of the total number of live wireless 911 voice calls for which data is collected pursuant to this section.

Under § 9.10(s)(4)(ii)(A)(1), CMRS providers must collect and report the live wireless 911 voice calls routed with location-based routing using location information that meets the timeliness and accuracy thresholds defined in paragraphs (s)(3)(i)(A) and (B) of this section, expressed as both a number and percentage of the total number of live wireless 911 voice calls for which data is collected pursuant to this section.

Under § 9.10(s)(4)(ii)(A)(2), CMRS providers must collect and report the live wireless 911 voice calls routed with location-based routing using location information that does not meet the timeliness or accuracy thresholds defined in paragraphs (s)(3)(i)(A) and (B) of this section, expressed as both a number and percentage of the total number of live wireless 911 voice calls for which data is collected pursuant to this section.

Under § 9.10(s)(4)(ii)(A)(3), CMRS providers must collect and report the live wireless 911 voice calls routed using tower-based routing, expressed as both a number and percentage of the total number of live wireless 911 voice calls for which data is collected pursuant to this section.

Modification of deadlines by agreement. To monitor compliance dates agreed to between CMRS providers and PSAPs that are different from the compliance dates established by the new rules, § 9.10(s)(5) establishes notification requirements for CMRS providers. Nothing in this section of the rules shall prevent PSAPs and CMRS providers from establishing, by mutual consent, deadlines different from those established for CMRS provider compliance in paragraphs (s)(1)(i) and (ii) and (s)(2) of this section. The CMRS provider must notify the Commission of the dates and terms of the alternate time frame within 30 days of the parties' agreement or by June 11, 2024, whichever is later. The CMRS provider must subsequently notify the Commission of the actual date by which it comes into compliance with the location-based routing requirements in paragraph (s)(1)(i) or (ii) or (s)(2) of § 9.10 within 30 days of that date or by June 11, 2024, whichever is later. The CMRS providers must file any such notifications pursuant to paragraph (s)(5) in PS Docket No. 18-64.

List of Subjects in 47 CFR Part 9

Communications common carriers, Communications equipment, Radio.

Federal Communications Commission.
Marlene Dortch,
Secretary.

Final Rules

For the reasons discussed in the preamble, the Federal Communications Commission amends 47 CFR part 9 as follows:

PART 9—911 REQUIREMENTS

1. The authority citation for part 9 continues to read as follows:

Authority: 47 U.S.C. 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471, and Section 902 of Title IX, Division FF, Pub. L. 116-260, 134 Stat. 1182, unless otherwise noted.

§ 9.10 [Amended]

2. Amend § 9.10 by removing paragraph (s)(6).

[FR Doc. 2024-21955 Filed 9-25-24; 8:45 am]

BILLING CODE 6712-01-P